DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Children's Hospitals Graduate Medical Education Payment Program (CHGME PP) (OMB No. 0915-0247)—Revision

The CHGME PP was enacted by Public Law 106-129 to provide Federal support for graduate medical education (GME) to freestanding children's hospitals. This legislation attempts to provide support for GME comparable to the level of Medicare GME support received by other, non-children's hospitals. The legislation indicates that eligible children's hospitals will receive payments for both direct and indirect medical education. Direct payments are designed to offset the expenses associated with operating approved graduate medical residency training programs and indirect payments are designed to compensate hospitals for expenses associated with the treatment of more severely ill patients and the additional costs relating to teaching residents in such programs.

Data are collected on the number of full-time equivalent residents in applicant children's hospitals' training programs to determine the amount of direct and indirect medical education payments to be distributed to participating children's hospitals. Indirect medical education payments will also be derived from a formula that requires the reporting of discharges, beds, and case mix index information from participating children's hospitals. Hospitals will be requested to submit such information in an annual application. Hospitals will also be requested to submit data on the number of full-time equivalent residents a second time during the Federal fiscal year to participate in the reconciliation payment process.

The estimated annual burden is as follows:

Form | Number of respondents | Responses per respondent | Total number of responses | Hours per response | Total burden hours
HRSA 99-1 (Initial Application) | 60 | 1 | 60 | 26 | 1,560
HRSA 99-1 (Reconciliation Application) | 60 | 1 | 60 | 8 | 480
HRSA 99-2 (Initial Application) | 60 | 1 | 60 | 15 | 900
HRSA 99-2 (Reconciliation Application) | 60 | 1 | 60 | 5 | 300
HRSA 99-3 (Initial Application) | 60 | 1 | 60 | .25 | 15
HRSA 99-3 (Reconciliation Application) | 60 | 1 | 60 | .25 | 15
HRSA 99-4 (Reconciliation Application) | 60 | 1 | 60 | 14 | 840
HRSA 99-5 (Initial Application) | 60 | 1 | 60 | .25 | 15
HRSA 99-5 (Reconciliation Application) | 60 | 1 | 60 | .25 | 15
Total | 60 |  | 60 |  | 4,140

Send comments to Susan G. Queen, Ph.D., HRSA Reports Clearance Officer, Room 10-33, Parklawn Building, 5600 Fishers Lane, Rockville, MD 20857. Written comments should be received within 60 days of this notice.

Dated: August 23, 2006.
Cheryl R. Dammons,
Director, Division of Policy Review and Coordination.

[FR Doc. E6-14411 Filed 8-29-06; 8:45 am]

BILLING CODE 4165-15-P